ENVIRONMENTAL PROTECTION AGENCY

[EPA-R04-OAR-2013-0577; EPA-R04-OAR-2013-0431; and EPA-R04-OAR-2013-0648; FRL-9907-98-Region-4]

Notice of Issuance of Final Air Permits for Statoil Gulf Services, LLC, Florida Power & Light—Port Everglades Next Generation Clean Energy Center, and Tampa Electric Company.

AGENCY: Environmental Protection Agency (EPA).

ACTION: Notice of final action.

SUMMARY: This notice is to announce that on October 28, 2013, the EPA issued final Outer Continental Shelf (OCS) air quality permit numbered OCS-EPA-R4012 for Statoil Gulf Services, LLC (Statoil); and on November 25, 2013 and December 18, 2013, the EPA issued final Prevention of Significant Deterioration (PSD) air quality permits numbered PSD-EPA-R4010 and PSD-EPA-R4014 for the Florida Power & Light (FPL)—Port Everglades Next Generation Clean Energy Center (PEEC) and Tampa Electric Company (TECO), respectively.

ADDRESSES: The final permits, the EPA's response to public comments for these permits, and supporting information are available at http://www.epa.gov/region4/air/permits/index.htm. Copies of the final permits and the EPA's response to comments are also available for review at the EPA Regional Office and upon request in writing. The EPA requests that you contact the person listed in the FOR FURTHER INFORMATION CONTACT section to schedule your inspection. The Regional Office's official hours of business are Monday through Friday, 8:30 a.m. to 4:30 p.m. excluding Federal holidays.

FOR FURTHER INFORMATION CONTACT: Please contact Ms. Heather Ceron, Air Permits Section Chief, Air Planning Branch, Air, Pesticides and Toxics Management Division, Region 4, U.S. Environmental Protection Agency, 61 Forsyth Street SW., Atlanta, Georgia 30303-8960. The telephone number is (404) 562-9185. Ms. Ceron can also be reached via electronic mail at ceron.heather@epa.gov.

SUPPLEMENTARY INFORMATION: On August 9, 2013, EPA Region 4 requested public comments on a preliminary determination to issue an OCS air permit for Statoil. During the public comment period, which ended on September 9, 2013, the EPA received no comments.

On May 31, 2013, EPA Region 4 requested public comments on a preliminary determination to issue a PSD air quality permit for the FPL PEEC project. A total of 26 comments from 3 commenters, including 1 request for a public hearing, were received (via email and letter) during the public comment period, which closed on July 2, 2013.

On September 24, 2013, EPA Region 4 requested public comments on a preliminary determination to issue a PSD air quality permit for the TECO project. A total of 25 comments from two commenters were received (via email) during the public comment period, which closed on October 25, 2013.

The EPA reviewed each comment received and prepared a Response to Comments document for the two projects. After consideration of the expressed view of all interested persons, the pertinent federal statutes and regulations, the applications and supplemental information submitted by the applicants, and additional material relevant to the applications and contained in the Administrative Records, the EPA made final determinations in accordance with title 40 CFR part 52 and part 55 (for Statoil) to issue final air permits.

Under 40 CFR 124.19(f)(2), notice of any final Agency action regarding a PSD permit must be published in the Federal Register. Section 307(b)(1) of the CAA provides for review of final Agency action that is locally or regionally applicable in the United States Court of Appeals for the appropriate circuit. Such a petition for review of final Agency action must be filed within 60 days from the date of notice of such action in the Federal Register. For purposes of judicial review under the CAA, final Agency action occurs when a final PSD permit is issued or denied by the EPA and Agency review procedures are exhausted, per 40 CFR 124.19(f)(1).

Any person who filed comments on the draft permits was provided the opportunity to petition the Environmental Appeals Board by the end of November 26, 2013 for the Statoil permit, by the end of December 26, 2013 for the PEEC permit, or by the end of January 17, 2014 for the TECO permit. No petitions were submitted for any of these permits. Therefore, the Statoil permit became effective on November 27, 2013. The PEEC permit became effective on December 27, 2013. This date was changed from December 25, 2013, as stated on the final permit, to correct for the effective date coinciding with a federal holiday. The TECO permit became effective on January 18, 2014.

Dated: February 27, 2014.
Carol L. Kemker,
Acting Director, Air, Pesticides and Toxics, Management Division, Region 4.

[FR Doc. 2014-05737 Filed 3-13-14; 8:45 am]

BILLING CODE 6560-50-P